SMALL BUSINESS ADMINISTRATION

[Declaration of Disaster #3585]

State of Indiana

As a result of the President's major disaster declaration on June 3, 2004, I find that Crawford, Clark, Marion, Miami, and Washington Counties in the State of Indiana constitute a disaster area due to damages caused by severe storms, tornadoes, and flooding occurring on May 27, 2004, and continuing. Applications for loans for physical damage as a result of this disaster may be filed until the close of business on August 2, 2004, and for economic injury until the close of business on March 3, 2005, at the address listed below or other locally announced locations: U.S. Small Business Administration, Disaster Area 2 Office, One Baltimore Place, Suite 300, Atlanta, GA 30308.

In addition, applications for economic injury loans from small businesses located in the following contiguous counties may be filed until the specified date at the above location: Boone, Cass, Dubois, Floyd, Fulton, Grant, Hamilton, Hancock, Harrison, Hendricks, Howard, Jackson, Jefferson, Johnson, Lawrence, Morgan, Orange, Perry, Scott, Shelby, and Wabash Counties in the State of Indiana; and Jefferson, Meade, Oldham, and Trimble Counties in the State of Kentucky.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury:
Businesses and small agricultural cooperatives without credit available elsewhere | 2.750

The number assigned to this disaster for physical damage is 358512. For economic injury the number is 9ZG800 for Indiana; and 9ZG900 for Kentucky.

(Catalog of Federal Domestic Assistance Program Nos. 59002 and 59008.)

Dated: June 4, 2004. Allan I. Hoberman,
Acting Associate Administrator for Disaster Assistance.

[FR Doc. 04-13183 Filed 6-9-04; 8:45 am]

BILLING CODE 8025-01-P